COMMISSION ON CIVIL RIGHTS

Sunshine Act Meeting Notice

AGENCY: United States Commission on Civil Rights.

ACTION: Notice of Commission Business Meeting.

DATES: Date and Time: Friday, February 20, 2015; 9:30 a.m. EST.

ADDRESSES: Place: 1331 Pennsylvania Ave NW., Suite 1150, Washington, DC.

FOR FURTHER INFORMATION CONTACT: Lenore Ostrowsky, Acting Chief, Public Affairs Unit (202) 376-8591.

Hearing-impaired persons who will attend the briefing and require the services of a sign language interpreter should contact Pamela Dunston at (202) 376-8105 or at signlanguage@usccr.gov at least seven business days before the scheduled date of the meeting.

SUPPLEMENTARY INFORMATION:

Meeting Agenda

This meeting is open to the public.

I. Approval of Agenda

II. Program Planning

• Discussion and Vote: Commission Statement commemorating the 55th Anniversary of Executive Order 10925 signed by President Kennedy barring discrimination in federal hiring

• Discussion and Vote: Commission Statement commemorating the 50th Anniversary of Selma, Alabama “Bloody Sunday” March

• Discussion and Vote: Commission Statement commemorating International Day for Elimination of Racial Discrimination

• Discussion and Vote: Commission Statement commemorating Cesar Chavez Day

III. Management and Operations

• Status Report on March Briefing: Examining Workplace Discrimination against LGBT

• Status Report from RPCU Chief on SAC projects from around the country

• Status Report on Commission follow up re: Visit to Immigration Detention Center (s) to round out FY2015 Statutory Enforcement Report Examination

IV. State Advisory Committee (SAC) Appointments

• Ohio

V. Adjourn Meeting

Dated: February 10, 2015.
David Mussatt,
Chief, Regional Programs Unit U.S. Commission on Civil Rights.

[FR Doc. 2015-03102 Filed 2-11-15; 11:15 am]

BILLING CODE 6335-01-P